DEPARTMENT OF VETERANS AFFAIRS

[OMB Control No. 2900-0768]

Agency Information Collection (Joint Application for Comprehensive Assistance and Support Services for Family Caregivers)

AGENCY: Veterans Health Administration, Department of Veterans Affairs.

ACTION: Under OMB Review.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before February 13, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0768” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0768” in any correspondence.

SUPPLEMENTARY INFORMATION: Titles: Application for Comprehensive Assistance for Family Caregivers Program, VA Form 10-10CG.

OMB Control Number: 2900-0768.

Type of Review: Revision of a currently approved collection.

Abstract: The information collected will be used to determine if an Operation Enduring Freedom/Operation Iraqi Freedom/Operation New Dawn (OEF/OIF/OND) Veteran or active duty service member undergoing medical discharge qualifies for Caregiver Support Services and whether the individuals designated to serve as a primary or secondary family caregiver meet VA's criteria to serve in these roles.

An agency may not conduct or sponsor, and a person is not required to respond to a collection of information unless it displays a currently valid OMB control number. The Federal Register Notice with a 60-day comment period soliciting comments on this collection of information was published at 79 FR 59562, October 2, 2014.

Affected Public: Individuals or households.

Estimated Total Annual Burden: 1,250 hours.

Estimated Average Burden per Respondent: 15 minutes.

Frequency of Response: Annually.

Estimated Number of Respondents: 5,000.

Dated: January 9, 2015.
By direction of the Secretary.
Crystal Rennie,
VA Clearance Officer, U.S. Department of Veterans Affairs.

[FR Doc. 2015-00456 Filed 1-13-15; 8:45 am]

BILLING CODE 8320-01-P